DEPARTMENT OF COMMERCE

National Oceanic and Atmospheric Administration

[RIN 0648-XA196]

Stock Status Determination for Atlantic Highly Migratory Scalloped Hammerhead Shark

AGENCY: National Marine Fisheries Service (NMFS), National Oceanic and Atmospheric Administration (NOAA), Commerce.

ACTION: Notice.

SUMMARY: This action serves as a notice that NMFS, on behalf of the Secretary of Commerce (Secretary), has determined that overfishing is occurring on an Atlantic highly migratory species (HMS) scalloped hammerhead shark, and the stock is overfished.

NMFS notifies the public whenever it determines that: overfishing is occurring, a stock is overfished, or a stock is approaching an overfished condition.

FOR FURTHER INFORMATION CONTACT: Peter Cooper at 301-713-2347 or Jackie Wilson at 240-338-3936.

SUPPLEMENTARY INFORMATION: For an Atlantic HMS that has been determined to be overfished or approaching an overfished condition, NMFS, on behalf of the Secretary, must take action to end or prevent overfishing in the fishery and to implement conservation and management measures to rebuild overfished stocks within 2 years of making this determination. This action must include implementing a rebuilding plan, through an FMP amendment or regulations, which ends overfishing immediately and provides for rebuilding the fishery in accordance with 16 U.S.C. 1854(e)(3)-(4) as implemented by 50 CFR 600.310(j)(2)(ii). When developing rebuilding plans, in addition to rebuilding the fishery within the shortest time possible in accordance with 16 U.S.C. 1854(e)(4) and 50 CFR 600.310(j)(3), NMFS must ensure that such actions address the requirements to amend the FMP for each affected stock or stock complex to establish a mechanism for specifying and actually specify Annual Catch Limits (ACLs) and Accountability Measures (AMs) to prevent overfishing in accordance with 16 U.S.C. 1853(a)(15) and 50 CFR 600.310(j)(2)(i).

In October 2009, Hayes et al. (2009) published in the North American Journal of Fisheries Management a stock assessment of the Atlantic population of scalloped hammerhead sharks in U.S. waters. Based on this paper, in 2005, the population was estimated to be at 45 percent of the biomass that would produce the maximum sustainable yield (MSY), and fishing mortality was estimated to be 129 percent of fishing mortality associated with MSY. The stock is estimated to be depleted by approximately 83 percent of virgin stock size (i.e., the current population is only 17 percent of the virgin stock size). In addition, it was estimated that a total allowable catch (TAC) of 2,853 scalloped hammerhead sharks per year (or 69 percent of 2005 catch) would allow a 70 percent probability of rebuilding within 10 years. NMFS has reviewed this paper and concluded that: the assessment is complete; the assessment is an improvement over a 2008 aggregated species assessment for hammerhead sharks; and the assessment is appropriate for U.S. management decisions.

Based on the results of this paper, NMFS is making the determination that scalloped hammerhead sharks are overfished and experiencing overfishing. Pending the results of the ongoing sandbar, dusky, and blacknose shark stock assessments, NMFS will publish a Notice of Intent regarding the development of a fishery management plan amendment and implementing regulations to end overfishing and rebuild the scalloped hammerhead shark stock within two years as mandated under the Magnuson-Stevens Fishery Conservation and Management Act. In addition, for fisheries experiencing overfishing, NMFS must propose and adopt effective ACLs and AMs to end overfishing.

Dated: April 25, 2011.
Margo Schulze-Haugen,
Acting Director, Office of Sustainable Fisheries, National Marine Fisheries Service.

[FR Doc. 2011-10328 Filed 4-27-11; 8:45 am]

BILLING CODE 3510-22-P